NATIONAL ARCHIVES AND RECORDS ADMINISTRATION

Advisory Committee on Presidential Libraries Meeting

AGENCY: National Archives and Records Administration.

ACTION: Notice of meeting.

SUMMARY: In accordance with the Federal Advisory Committee Act, the National Archives and Records Administration (NARA) announces a meeting of the Advisory Committee on Presidential Libraries. NARA uses the Committee's recommendations on NARA's implementation of strategies for preserving the permanently valuable records of the Federal Government.

DATES: March 30, 2005, from 10 a.m. to 2:30 p.m.

ADDRESSES: The National Archives Building, 700 Pennsylvania Avenue, NW., Archivist's Board Room, Washington, DC.

FOR FURTHER INFORMATION CONTACT: Sharon Fawcett at 301-837-3250.

SUPPLEMENTARY INFORMATION: The agenda for the meeting will be the Presidential Library program and a discussion of issues related to developing public awareness of Presidential Library programs.

The meeting will be open to the public.

Dated: March 2, 2005.
Mary Ann Hadyka,
Committee Management Officer.

[FR Doc. 05-4388 Filed 3-7-05; 8:45 am]

BILLING CODE 7515-01-P